DEPARTMENT OF TRANSPORTATION

Federal Aviation Administration

14 CFR Part 39

[Docket No. FAA-2021-0496; Project Identifier MCAI-2020-00393-R; Amendment 39-21700; AD 2021-17-17]

RIN 2120-AA64

Airworthiness Directives; Airworthiness Directives; Airbus Helicopters and Airbus Helicopters Deutschland GmbH (AHD) Helicopters

AGENCY: Federal Aviation Administration (FAA), DOT.

ACTION: Final rule.

SUMMARY: The FAA is adopting a new airworthiness directive (AD) for Airbus Helicopters Model AS332C, AS332C1, AS332L, AS332L1, AS350B, AS350BA, AS350B1, AS350B2, AS350B3, AS350D, AS355E, AS355F, AS355F1, AS355F2, AS355N, AS355NP, AS-365N2, AS 365 N3, EC120B, EC130B4, EC130T2, EC 155B, EC155B1, SA-365N, and SA-365N1 helicopters; and Airbus Helicopters Deutschland GmbH (AHD) Model EC135P1, EC135P2, EC135P2+, EC135P3, EC135T1, EC135T2, EC135T2+, EC135T3, MBB-BK117 C-2, and MBB-BK117 D-2 helicopters. This AD was prompted by failure of an Emergency Flotation System (EFS) float compartment to inflate during maintenance of the EFS. This AD requires inspecting certain EFSs and depending on the results, marking certain parts or removing certain parts from service, as specified in a European Union Aviation Safety Agency (EASA) AD, which is incorporated by reference (IBR). The FAA is issuing this AD to address the unsafe condition on these products.

DATES: This AD is effective November 22, 2021.

The Director of the Federal Register approved the incorporation by reference of certain publications listed in this AD as of November 22, 2021.

ADDRESSES: For EASA material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. For Safran Aerosystems service information identified in this final rule, contact Safran Aerosystems, Technical Publication Department, 61 rue Pierre Curie CS20001, 78373 Plaisir Cedex, France; telephone (33) 1 61 34 23 23; fax (33) 1 61 34 24 41; or at https://www.safran-aerosystems.com/customers-0. You may view this material at the FAA, Office of the Regional Counsel, Southwest Region, 10101 Hillwood Pkwy., Room 6N-321, Fort Worth, TX 76177. For information on the availability of this material at the FAA, call (817) 222-5110. It is also available in the AD docket on the internet at https://www.regulations.gov by searching for and locating Docket No. FAA-2021-0496.

Examining the AD Docket

You may examine the AD docket on the internet at https://www.regulations.gov by searching for and locating Docket No. FAA-2021-0496; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Andrea Jimenez, Aerospace Engineer, Airframe and Propulsion Section, FAA, New York ACO Branch, 1600 Stewart Avenue, Suite 410, Westbury, NY 11590; telephone (516) 228-7330; fax (516) 794-5531; email 9-avs-nyaco-cos@faa.gov.

SUPPLEMENTARY INFORMATION:

Background

EASA, which is the Technical Agent for the Member States of the European Union, has issued EASA AD 2020-0064, dated March 19, 2020 (EASA AD 2020-0064), to correct an unsafe condition for Airbus Helicopters (AH), formerly Eurocopter, Eurocopter France, Aerospatiale Model EC 120 B, EC 175 B, AS 332 C, AS 332 C1, AS 332 L, AS 332 L1, AS 350 B, AS 350 B1, AS 350 B2, AS 350 BA, AS 350 BB, AS 350 B3, AS 350 D, EC 130 B4, EC 130 T2, AS 355 E, AS 355 F, AS 355 F1, AS 355 F2, AS 355 N, AS 355 NP, SA 365 N, SA 365 N1, AS 365 N2, AS 365 N3, EC 155 B, and EC 155 B1 helicopters. EASA AD 2020-0064 also corrects an unsafe condition for Airbus Helicopters Deutschland GmbH (AHD), formerly Eurocopter Deutschland GmbH; and Airbus Helicopters Inc., formerly American Eurocopter LLC, Eurocopter España S.A. Model MBB-BK117 C-2, MBB-BK117 D-2, EC 135 P1, EC 135 P2, EC 135 P2+, EC 135 P3, EC 135 T1, EC 135 T2, EC 135 T2+, EC 135 T3, EC 635 P2+, EC 635 P3, EC 635 T1, EC 635 T2+, and EC 635 T3 helicopters. Model EC635 P2+, EC635 P3, EC635 T1, EC635 T2+, and EC635 T3 helicopters are not certificated by the FAA and are not included on the U.S. type certificate data sheet except where the U.S. type certificate data sheet explains that the Model EC635T2+ helicopter having serial number 0858 was converted from Model EC635T2+ to Model EC135T2+; this AD therefore does not include Model EC635 P2+, EC635 P3, EC635 T1, EC635 T2+, and EC635 T3 helicopters in the applicability.

The FAA issued a notice of proposed rulemaking (NPRM) to amend 14 CFR part 39 by adding an AD that would apply to certain Airbus Helicopters Model AS332C, AS332C1, AS332L, AS332L1, AS350B, AS350BA, AS350B1, AS350B2, AS350B3, AS350D, AS355E, AS355F, AS355F1, AS355F2, AS355N, AS355NP, AS-365N2, AS 365 N3, EC120B, EC130B4, EC130T2, EC 155B, EC155B1, SA-365N, and SA-365N1 helicopters, and Airbus Helicopters Deutschland GmbH (AHD) Model EC135P1, EC135P2, EC135P2+, EC135P3, EC135T1, EC135T2, EC135T2+, EC135T3, MBB-BK117 C-2, and MBB-BK117 D-2 helicopters. The NPRM published in the Federal Register on June 16, 2021 (86 FR 31995). The NPRM was prompted by failure of an Emergency Flotation System (EFS) float compartment to inflate during maintenance of the EFS. The NPRM proposed to require inspecting certain EFSs and depending on the results, marking certain parts or removing certain parts from service specified in EASA AD 2020-0064.

Discussion of Final Airworthiness Directive

Comments

The FAA gave the public the opportunity to participate in developing this final rule. The FAA received no comments on the NPRM or on the determination of the cost to the public.

Conclusion

The FAA reviewed the relevant data and determined that air safety and the public interest require adopting this final rule as proposed, except for a minor change. In the NPRM, the FAA proposed to require actions specified in EASA AD 2020-0064 through incorporation by reference, except for certain differences. The FAA has obtained approval to use this process from certain manufacturers, including Airbus Helicopters and Airbus Helicopters Deutschland GmbH (AHD); however, the FAA has not worked with Safran Aerosystems for approval of this process. EASA AD 2020-0064 requires using Safran Aerosystems Service Bulletin (SB) 025-69-18, original issue (Revision 0), dated December 11, 2019 or Revision 1, dated February 4, 2020 (SB 025-69-18 Rev 0 or SB 025-69-18 Rev 1), and allows the use of later approved revisions, to accomplish certain actions. In this AD, a clarification has been added into this final rule to directly use SB 025-69-18 Rev 1 or Safran Aerosystems SB 025-69-18, Revision 2, dated March 24, 2021 (SB 025-69-18 Rev 2), instead of using SB 025-69-18 Rev 0 or SB 025-69-18 Rev 1 through incorporation by reference of EASA AD 2020-0064.

The FAA has determined that this minor change:

• Is consistent with the intent that was proposed in the NPRM for addressing the unsafe condition; and

• Does not add any additional burden upon the public than was already proposed in the NPRM.

Related Service Information Under 1 CFR Part 51

EASA AD 2020-0064 specifies inspecting certain EFSs and depending on the results, marking a float supply hose with a green dot with indelible ink if the float supply hose passes an inspection, replacing the float supply hose with a serviceable float supply hose, or replacing an affected EFS with a serviceable EFS. EASA AD 2020-0064 also prohibits installing a float supply hose unless it passes the inspection and is marked.

The FAA reviewed SB 025-69-18 Rev 1 and SB 025-69-18 Rev 2, which apply to certain Safran Aerosystems EFS and float supply hoses. Each revision of this service information specifies procedures for inspecting single- and multi-section EFS inflation system float supply hoses for blockage, and depending on the results, replacing the hose and contacting Safran Aerosystems, or marking the hose. SB 025-69-18 Rev 2 was issued to correct a list of possibly affected parts (Table 3).

This material is reasonably available because the interested parties have access to it through their normal course of business or by the means identified in the ADDRESSES section.

Differences Between This AD and the EASA AD

EASA AD 2020-0064 applies to Airbus Helicopters Model EC120B, EC175B, AS332C, AS332C1, AS332L, AS332L1, AS350B, AS350B1, AS350B2, AS350BA, AS350BB, AS350B3, AS350D, EC130B4, EC130T2, AS355E, AS355F, AS355F1, AS355F2, AS355N, AS355NP, SA-365N, SA-365N1, AS-365N2, AS 365 N3, EC155 B, and EC155B1 helicopters and Airbus Helicopters Deutschland GmbH Model MBB-BK 117 C-2, MBB-BK 117 D-2, EC135P1, EC135P2, EC135P2+, EC135P3, EC135T1, EC135T2, EC135T2+, EC135T3, EC635 P2+, EC635P3, EC635T1, EC635T2+, and EC635T3 helicopters, whereas this AD does not include Model AS350BB, EC175B, EC635P2+, EC635P3, EC635T1, EC635T2+, and EC635T3 helicopters because these models are not FAA type-certificated. Where the service information referenced in EASA AD 2020-0064 requires certain compliance times depending on whether the helicopter is operated over water, this AD requires compliance within 100 hours time-in-service (TIS) instead. Where the service information referenced in EASA AD 2020-0064 specifies “work must be performed on the helicopter by the operator,” this AD requires that the work be accomplished by a mechanic that meets the requirements of 14 CFR part 65 subpart D. Where some of the service information referenced in EASA AD 2020-0064 specifies replacing or removing an affected hose that fails the inspection, this AD requires removing the hose from service instead. Where some of the service information referenced in EASA AD 2020-0064 specifies to discard certain parts, this proposed AD requires removing those parts from service instead. Where some of the service information referenced in EASA AD 2020-0064 specifies to return the EFS to the Safran Aerosystems network or clogged hoses to Safran Aerosystems Services, this AD does not include those requirements. Where the service information referenced in EASA AD 2020-0064 specifies to submit certain information to the manufacturer, this AD does not include that requirement.

Costs of Compliance

The FAA estimates that this AD affects 1,900 helicopters of U.S. Registry. Labor rates are estimated at $85 per work-hour. Based on these numbers, the FAA estimates that operators may incur the following costs in order to comply with this AD.

Inspecting the EFS takes up to about 8 work-hours for an estimated cost of up to $680 per helicopter and $1,292,000 for the U.S. fleet.

Replacing an EFS hose takes about 1 work-hour and parts cost between $500 and $2,000 per hose, and up to $11,000 for a set of float supply hoses, for an estimated cost of up to $11,085 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-17-17 Airbus Helicopters and Airbus Helicopters Deutschland GmbH (AHD): Amendment 39-21700; Docket No. FAA-2021-0496; Project Identifier MCAI-2020-00393-R.

(a) Effective Date

This airworthiness directive (AD) is effective November 22, 2021.

(b) Affected Airworthiness Directives (ADs)

None.

(c) Applicability

This AD applies to the following helicopters, certificated in any category, with an affected part as defined in European Union Aviation Safety Agency (EASA) AD 2020-0064, dated March 19, 2020 (EASA AD 2020-0064), installed:

(1) Airbus Helicopters Model AS332C, AS332C1, AS332L, AS332L1, AS350B, AS350BA, AS350B1, AS350B2, AS350B3, AS350D, AS355E, AS355F, AS355F1, AS355F2, AS355N, AS355NP, AS-365N2, AS 365 N3, EC120B, EC130B4, EC130T2, EC 155B, EC155B1, SA-365N, and SA-365N1 helicopters, and

Note 1 to paragraph (c)(1): Helicopters with an AS350B3e designation are Model AS350B3 helicopters.

(2) Airbus Helicopters Deutschland GmbH (AHD) Model EC135P1, EC135P2, EC135P2+, EC135P3, EC135T1, EC135T2, EC135T2+, EC135T3, MBB-BK117 C-2, and MBB-BK117 D-2 helicopters.

Note 2 to paragraph (c)(2): Helicopters with an EC135P3H designation are Model EC135P3 helicopters. Helicopters with an EC135T3H designation are Model EC135T3 helicopters. Helicopters with an MBB-BK117 C-2e designation are Model MBB-BK117 C-2 helicopters.

(d) Subject

Joint Aircraft System Component (JASC) Code: 2500, Cabin Equipment/Furnishings.

(e) Unsafe Condition

This AD was prompted by failure of an Emergency Flotation System (EFS) float compartment to inflate during maintenance of the EFS. The FAA is issuing this AD to address a blocked float supply hose. The unsafe condition, if not addressed, could result in partial inflation of an EFS float during an emergency landing on water and subsequently preventing a timely egress from the helicopter, which could result in injury to helicopter occupants.

(f) Compliance

Comply with this AD within the compliance times specified, unless already done.

(g) Requirements

Except as specified in paragraph (h) of this AD: Comply with all required actions and compliance times specified in, and in accordance with, EASA AD 2020-0064.

(h) Exceptions to EASA AD 2020-0064

(1) Where EASA AD 2020-0064 refers to its effective date, this AD requires using the effective date of this AD.

(2) Where paragraph (1) of the EASA AD requires inspecting each affected part within the compliance time defined in section 1.E of the applicable ASB, this AD requires inspecting each affected part within 100 hours time-in-service (TIS) after the effective date of this AD.

(3) Where the service information referenced in paragraph (1) of EASA AD 2020-0064 specifies that “the work must be performed on the helicopter by the operator,” this AD requires that the work be accomplished by a mechanic that meets the requirements of 14 CFR part 65 subpart D.

(4) Where the service information referenced in EASA AD 2020-0064 specifies replacing or removing an affected hose that fails the inspection, this AD requires removing the hose from service.

(5) Where the service information referenced in EASA AD 2020-0064 specifies to discard certain parts, this AD requires removing those parts from service.

(6) Where the service information referenced in EASA AD 2020-0064 specifies returning the EFS to the Safran Aerosystems network for compliance or returning clogged hoses to Safran Aerosystems Services, this AD does not include those requirements.

(7) This AD does not mandate compliance with the “Remarks” section of EASA AD 2020-0064.

(i) Clarification of Required Service Information

As required by the Definitions section and paragraph (4.2) of EASA AD 2020-0064, this AD requires using Safran Aerosystems Service Bulletin (SB) 025-69-18, Revision 1, dated February 4, 2020, or Safran Aerosystems SB 025-69-18, Revision 2, dated March 24, 2021.

(j) No Reporting Requirement

Although the service information referenced in EASA AD 2020-0064 specifies to submit certain information to the manufacturer, this AD does not include that requirement.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Andrea Jimenez, Aerospace Engineer, Airframe and Propulsion Section, FAA, New York ACO Branch, 1600 Stewart Avenue, Suite 410, Westbury, NY 11590; telephone 516-228-7330; fax 516-794-5531; email 9-avs-nyaco-cos@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0064, dated March 19, 2020.

(ii) Safran Aerosystems Service Bulletin (SB) 025-69-18, Revision 1, dated February 4, 2020.

(iii) Safran Aerosystems SB 025-69-18, Revision 2, dated March 24, 2021.

(3) For EASA AD 2020-0064, contact the EASA, Konrad-Adenauer-Ufer 3, 50668 Cologne, Germany; telephone +49 221 8999 000; email ADs@easa.europa.eu; Internet www.easa.europa.eu. You may find this EASA AD on the EASA website at https://ad.easa.europa.eu. For Safran Aerosystems service information identified in this AD, contact Safran Aerosystems, Technical Publication Department, 61 rue Pierre Curie CS20001, 78373 Plaisir Cedex, France; telephone (33) 1 61 34 23 23; fax (33) 1 61 34 24 41; or at https://www.safran-aerosystems.com/customers-0.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0496.

(5) You may view this material that is incorporated by reference at the National Archives and Records Administration (NARA). For information on the availability of this material at NARA, email fr.inspection@nara.gov, or go to https://www.archives.gov/federal-register/cfr/ibr-locations.html.

Issued on September 16, 2021.
Lance T. Gant,
Director, Compliance & Airworthiness Division, Aircraft Certification Service.

[FR Doc. 2021-22467 Filed 10-15-21; 8:45 am]

BILLING CODE 4910-13-P